DEPARTMENT OF DEFENSE

Department of the Army, U.S. Army Corps of Engineers

RIN 0710-AA49

Guidance Memoranda for the Comprehensive Everglades Restoration Plan

AGENCY: U.S. Army Corps of Engineers, DOD.

ACTION: Notice of availability.

SUMMARY: The U.S. Army Corps of Engineers and the South Florida Water Management District have developed the six guidance memoranda required by the programmatic regulations for the Comprehensive Everglades Restoration Plan for approval by the Secretary of the Army. The public is invited to review and comment on the final draft of the guidance memoranda prepared by the U.S. Army Corps of Engineers and the South Florida Water Management District.

DATES: We will accept comments until June 6, 2005.

ADDRESSES: If you wish to comment on the guidance memoranda, you may submit your comments by either of these methods:

1. You may submit written comments to: U.S. Army Corps of Engineers, ATTN: CESAJ-PD, P.O. Box 4970, Jacksonville, FL 32232-0019.

2. You may send comments by electronic mail (e-mail) to: GMComments@usace.army.mil.

If submitting comments by electronic format, please submit them in ASCII file format or Word file format and avoid the use of special characters and any form of encryption. Please include your name and return e-mail address in your e-mail message. Please note that your e-mail address will not be retained at the termination of the public comment period.

FOR FURTHER INFORMATION CONTACT: Stu Appelbaum, U.S. Army Corps of Engineers, Jacksonville District, P.O. Box 4970, Jacksonville, Florida 32232-0019, phone (904) 232-2238; fax (904) 232-3442.

SUPPLEMENTARY INFORMATION: On November 12, 2003, the Department of the Army published the final rule in the Federal Register that established the programmatic regulations required by the Water Resources Development Act of 2000 as 33 CFR part 385. Section 385.5 of the programmatic regulations requires that the U.S. Army Corps of Engineers and the South Florida Water Management District develop, in consultation with the Department of the Interior, the Environmental Protection Agency, the Department of Commerce, the Miccosukee Tribe of Indians of Florida, the Seminole Tribe of Florida, the Florida Department of Environmental Protection, and other Federal, State, and local agencies, six guidance memoranda for approval by the Secretary of the Army. Guidance memoranda are program-wide procedures and processes needed to guide implementation of the Comprehensive Everglades Restoration Plan and to ensure that the goals and purposes of the Plan are achieved. The programmatic regulations require that the Secretary of the Army afford the public an opportunity to comment on the Guidance Memoranda prior to their approval. The programmatic regulations also require the concurrence of the Secretary of the Interior and the Governor of Florida on the Guidance Memoranda. An electronic copy of the guidance memoranda document is available at: http://www.evergladesplan.org/pm/progr_regs_guidance_memoranda.cfm.

Authority: 33 CFR 385.5.

Dated: April 28, 2005.
John Paul Woodley, Jr.,
Principal Deputy Assistant Secretary of the Army (Civil Works), Department of the Army.

[FR Doc. 05-9046 Filed 5-5-05; 8:45 am]

BILLING CODE 3710-92-P